DEPARTMENT OF HEALTH AND HUMAN SERVICES

Meeting of the Advisory Committee on Training in Primary Care Medicine and Dentistry

AGENCY: Health Resources and Service Administration (HRSA), Department of Health and Human Services (HHS).

ACTION: Notice of meeting.

SUMMARY: In accordance with the Federal Advisory Committee Act, this notice announces that the Advisory Committee on Training in Primary Care Medicine and Dentistry (ACTPCMD) will hold a public meeting. Information about ACTPCMD and the agenda for this meeting can be found on the ACTPCMD website at: https://www.hrsa.gov/advisory-committees/primarycare-dentist/index.html.

DATES: September 10, 2018, 9:00 a.m.-5:00 p.m. ET, and September 11, 2018, 8:30 a.m.-2:30 p.m. ET.

ADDRESSES: This meeting will be held in person and offer virtual access through teleconference and webinar. The address for the meeting is 5600 Fishers Lane, Rockville, Maryland 20857.

• Conference call-in number: 1-800-238-9007; Passcode: 532320.

• Webinar link: https://hrsa.connectsolutions.com/actpcmd.

FOR FURTHER INFORMATION CONTACT: Dr. Kennita Carter, Designated Federal Official (DFO), Division of Medicine and Dentistry, Bureau of Health Workforce, HRSA, 5600 Fishers Lane, 15N-116, Rockville, Maryland 20857; 301-945-3505; or KCarter@hrsa.gov.

SUPPLEMENTARY INFORMATION: ACTPCMD provides advice and recommendations to the Secretary of HHS (Secretary) on policy, program development, and other matters of significance concerning the activities under section 747 of Title VII of the Public Health Service (PHS) Act, as it existed upon the enactment of Section 749 of the PHS Act in 1998. ACTPCMD prepares an annual report describing the activities of the Committee, including findings and recommendations made by the Committee concerning the activities under section 747, as well as training programs in oral health and dentistry. The annual report is submitted to the Secretary and Chairman and ranking members of the Senate Committee on Health, Education, Labor and Pensions, and the House of Representatives Committee on Energy and Commerce. The Committee also develops, publishes, and implements performance measures and guidelines for longitudinal evaluations of programs authorized under Title VII, Part C, of the PHS Act, and recommends appropriation levels for programs under this Part.

During the September 10-11, 2018, meeting, ACTPCMD will have follow-up discussions on PHS Act section 747 and oral health training programs, and finalize its recommendations on funding and appropriation levels to be included in its 16th report. In addition, the Committee will complete the 16th report and a pending report on promoting clinical trainee and faculty well-being and mitigating burnout. Agenda items are subject to change as priorities dictate.

Members of the public will have the opportunity to provide comments. Public participants may submit written statements in advance of the scheduled meeting. Oral comments will be honored in the order they are requested and may be limited as time allows. Requests to make oral comments or submit a written statement to ACTPCMD should be sent to Dr. Kennita R. Carter, DFO, using the contact information above at least 3 business days prior to the meeting.

Individuals who plan to attend and need special assistance or another reasonable accommodation should notify Dr. Kennita R. Carter at the address and phone number listed above at least 10 business days prior to the meeting. Since this meeting occurs in a federal government building, attendees must go through a security check to enter the building. Non-U.S. Citizen attendees must notify HRSA of their planned attendance at least 10 business days prior to the meeting in order to facilitate their entry into the building. All attendees are required to present government-issued identification prior to entry.

Amy P. McNulty,
Acting Director, Division of the Executive Secretariat.

[FR Doc. 2018-18074 Filed 8-21-18; 8:45 am]

BILLING CODE 4165-15-P